OFFICE OF PERSONNEL MANAGEMENT

Excepted Service

AGENCY: Office of Personnel Management.

ACTION: Notice.

SUMMARY: This gives notice of positions placed or revoked under Schedules A and B, and placed under Schedule C in the excepted service, as required by Civil Service Rule VI, Exceptions from the Competitive Service.

FOR FURTHER INFORMATION CONTACT: Director, Staffing Reinvention Office, Employment Service (202) 606-0830.

SUPPLEMENTARY INFORMATION: The Office of Personnel Management published its last monthly notice updating appointing authorities established or revoked under the Excepted Service provisions of 5 CFR 213 on December 27, 1999 (64 FR 72369). Individual authorities established or revoked under Schedules A and B and established under Schedule C between November 1, 1999, and December 31, 1999, appear in the listing below. Future notices will be published on the fourth Tuesday of each month, or as soon as possible thereafter. A consolidated listing of all authorities has been published June 30 of last year.

Schedule A

No Schedule A authorities were established or revoked during November or December 1999.

Schedule B

No Schedule B authorities were established or revoked during November or December 1999.

Schedule C

The following Schedule C authorities were established during November thru December 1999:

Broadcasting Board of Governors

Senior Advisor to the Director, International Broadcasting Bureau. Effective November 2, 1999.

Commission on Civil Rights

Special Assistant to the Commissioner. Effective November 5, 1999.

Department of Agriculture

Confidential Assistant to the Deputy Administrator, Office of Community Development. Effective November 1, 1999.

Confidential Assistant to the Chief, Natural Resources Conservation Service. Effective November 3, 1999.

Confidential Assistant to the Director, Office of Civil Rights. Effective November 5, 1999.

Confidential Assistant to the Director, Office of Communications. Effective November 5, 1999.

Confidential Assistant to the Administrator, Rural Utilities Service. Effective November 18, 1999.

Staff Assistant to the Press Secretary to the Director, Office of Communications. Effective November 24, 1999.

Confidential Assistant to the Director, Office of Communications. Effective November 24, 1999.

Staff Assistant to the Chief (Program Support Assistant) to the Chief, Natural Resources and Environment. Effective December 2, 1999.

Deputy Press Secretary to the Director, Office of Communications. Effective December 15, 1999.

Staff Assistant to the Administrator, Agricultural Marketing Service. Effective December 15, 1999.

Staff Assistant to the Administrator, Agricultural Research Service. Effective December 22, 1999.

Department of Commerce

Special Assistant to the Under Secretary for Oceans and Atmospheric Administration. Effective November 22, 1999.

Department of Defense

Special Assistant to the Special Assistant to the Secretary of Defense for White House Liaison. Effective November 3, 1999.

Confidential Assistant to the Director, Defense Research and Engineering. Effective December 13, 1999.

Special Assistant to the Assistant Secretary of Defense (Special Operations and Low Intensity Conflict). Effective December 13, 1999.

Special Assistant for Outreach to the Deputy Under Secretary of Defense (Environmental Security). Effective December 20, 1999.

Department of Education

Confidential Assistant to the Director, Office of Public Affairs, Office of the Secretary. Effective November 2, 1999.

Confidential Assistant to the Director, America Reads Challenge. Effective November 5, 1999.

Confidential Assistant to the Director, America Reads Challenge. Effective November 5, 1999.

Special Assistant to the Assistant Secretary, Office for Civil Rights. Effective December 22, 1999.

Special Assistant to the Assistant Secretary, Office of Interagency Affairs and Community Service. Effective December 22, 1999.

Department of Energy

Special Assistant for Communications to the Assistant Secretary for Environmental Management. Effective November 15, 1999.

Director, Energy Advisory Board to the Secretary of Energy. Effective November 18, 1999.

Senior Policy Advisor to the Secretary of Energy. Effective December 6, 1999.

Executive Assistant to the Secretary of Energy. Effective December 7, 1999.

Senior Policy Advisor to the Secretary of Energy. Effective December 15, 1999.

Special Assistant to the Director, Consumer Information. Effective December 22, 1999.

Special Projects Officer to the Deputy Assistant Secretary, Office of Power Technology. Effective December 23, 1999.

Special Assistant to the Deputy Assistant Secretary for Natural Gas and Petroleum Technology. Effective December 23, 1999.

Department of Health and Human Services

Confidential Assistant to the Administrator, Health Care Financing Administration. Effective November 8, 1999.

Department of Housing and Urban Development

Special Assistant to the Advisor for Management Reform and Operations. Effective November 12, 1999.

Director of Operations to the Advisor for Management Reform and Operations. Effective November 18, 1999.

Associate General Deputy Assistant Secretary to the Assistant Secretary for Housing. Effective December 15, 1999.

Deputy Assistant Secretary to the Assistant Secretary for Administration.. Effective December 15, 1999.

Special Assistant to the Deputy Secretary. Effective December 16, 1999.

Special Assistant to the Assistant Secretary for Community Planning and Development. Effective December 22, 1999.

Special Assistant to the Assistant Secretary for Community Planning and Development. Effective December 22, 1999.

Special Assistant to the Assistant Secretary for Community Planning and Development. Effective December 22, 1999.

Special Assistant to the Advisor for Management Reform and Operations. Effective December 23, 1999.

Special Counsel to the General Counsel. Effective December 23, 1999.

Special Counsel to the General Counsel. Effective December 23, 1999.

Deputy Assistant Secretary for Research to the Assistant Secretary for Policy Development and Research. Effective December 23, 1999.

Department of the Interior

Deputy Director, Office of Insular Affairs to the Director, Office of Insular Affairs. Effective November 5, 1999.

Deputy Assistant Secretary for Workforce Diversity to the Assistant Secretary for Policy, Management and Budget. Effective November 9, 1999.

Special Assistant to the Chief of Staff. Effective November 18, 1999.

Special Assistant to the Deputy Chief of Staff. Effective November 22, 1999.

Senior Advisor to the Assistant Secretary, Policy Management and Budget. Effective December 1, 1999.

Special Assistant to the Deputy Chief of Staff. Effective December 15, 1999.

Senior Advisor to the Director, Bureau of Land Management. Effective December 15, 1999.

Department of Justice

Counsel to the Assistant Attorney General, Environmental and Natural Resources Division. Effective November 5, 1999.

Staff Assistant to the Director, Office of Public Affairs. Effective November 15, 1999.

Special Assistant to the Director, Community Relations Service. Effective December 7, 1999.

Department of Labor

Special Assistant to the Assistant Secretary for Policy. Effective November 1, 1999.

Special Assistant to the Assistant Secretary for Public Affairs. Effective November 5, 1999.

Attorney-Advisor (Labor) to the Solicitor of Labor. Effective November 24, 1999.

Special Assistant to the Assistant Secretary of Labor. Effective November 29, 1999.

Special Assistant to the Assistant Secretary for Public Affairs. Effective December 1, 1999.

Speech Writer to the Assistant Secretary for Public Affairs. Effective December 2, 1999.

Chief of Staff to the Assistant Secretary, Office of Congressional and Intergovernmental Affairs. Effective December 7, 1999.

Special Assistant to the Secretary of Labor. Effective December 22, 1999.

Department of State

Senior Advisor to the Under Secretary for Public Diplomacy and Public Affairs. Effective November 3, 1999.

Staff Assistant to the Under Secretary for Economic, Business and Agricultural Affairs. Effective November 3, 1999.

Staff Assistant to the Deputy to the Chief of Staff. Effective November 22, 1999.

Program Officer to the Deputy Assistant Secretary, Bureau of Public Affairs. Effective December 6, 1999.

Management Analyst to the Deputy Assistant Secretary for Logistics Management. Effective December 15, 1999.

Protocol Officer (Visits) to the Chief of Protocol. Effective December 16, 1999.

Department of Transportation

Special Assistant to the Assistant to the Secretary and Director of Public Affairs. Effective November 5, 1999.

Special Assistant to the Assistant Secretary for Budget and Programs. Effective November 15, 1999.

Senior Advisor to the Administrator, Federal Railroad Administration. Effective November 18, 1999.

Special Assistant for Scheduling and Advance to the Director of Scheduling and Advance. Effective December 7, 1999.

Department of the Treasury

Special Assistant to the Executive Secretary. Effective November 15, 1999.

Deputy Executive Secretary to the Executive Secretary. Effective November 29, 1999.

Department of Veterans Affairs

Special Assistant to the Secretary of Veterans Affairs. Effective December 7, 1999.

Confidential Assistant to the Secretary of Veterans Affairs. Effective December 17, 1999.

Environmental Protection Agency

Special Assistant to the Deputy Administrator. Effective December 28, 1999.

Federal Communications Commission

Senior Advisor to the Director, Office of Legislative and Intergovernmental Affairs. Effective December 9, 1999.

Federal Deposit Insurance Corporation

Secretary to the Chairman. Effective November 9, 1999.

Office of Management and Budget

Confidential Assistant to the Associate Director, National Security and International Affairs. Effective November 5, 1999.

Special Assistant to the Director, Office of Management and Budget. Effective November 15, 1999.

Office of Personnel Management

Senior Advisor for Communications to the Director, Office of Communications. Effective December 17, 1999.

Small Business Administration

Senior Advisor to the Deputy Administrator. Effective December 22, 1999.

Senior Advisor to the Associate Deputy Administrator for Entrepreneurial Development. Effective December 22, 1999.

Regional Administrator, Region V, Chicago, IL to the Assistant Director, for Field Operations. Effective December 28, 1999.

U.S. International Trade Commission

Staff Assistant to the Commissioner. Effective December 22, 1999.

Authority: 5 U.S.C. 3301 and 3302; E.O. 10577, 3 CFR 1954-1958 Comp., P.218.

Office of Personnel Management.

Janice R. Lachance,
Director.

[FR Doc. 00-3411 Filed 2-14-00; 8:45 am]

BILLING CODE 6325-01-P